DEPARTMENT OF LABOR

Office of the Secretary

Submission for OMB Review: Comment Request

November 19, 2007.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: John Kraemer, OMB Desk Officer for the Occupational Safety and Health Administration (OSHA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title: Ionizing Radiation (29 CFR 1910.1096).

OMB Control Number: 1218-0103.

Affected Public: Private Sector: Business or other for-profits.

Estimated Number of Respondents: 12,719.

Estimated Total Annual Burden Hours: 39,531.

Estimated Total Annual Costs Burden: $2,341,440.

Description: The purpose of the information collection requirements contained in the Ionizing Radiation Standard (29 CFR 1910.1096) is to document that employers are providing their employees with protection from hazardous ionizing radiation exposure.

Agency: Occupational Safety and Health Administration.

Type of Review: Extension without change of a previously approved collection.

Title: Material Hoists, Personnel Hoists, and Elevators; Posting Requirements (29 CFR 1926.552).

OMB Control Number: 1218-0231.

Affected Public: Private Sector: Business or other for-profits.

Estimated Number of Respondents: 26,547.

Estimated Total Annual Burden Hours: 30,282.

Estimated Total Annual Costs Burden: $0.

Description: The information collection requirements contained in the Standard on Material Hoists, Personnel Hoists, and Elevators (29 CFR 1926.552), are designed to protect employees who operate and work around personnel hoists.

Agency: Occupational Safety and Health Administration.

Type of Review: Extension without change of a previously approved collection.

Title: Regulations Containing Procedures for Handling of Discrimination Complaints.

OMB Control Number: 1218-0236.

Affected Public: Individuals or households.

Estimated Number of Respondents: 390.

Estimated Total Annual Burden Hours: 390.

Estimated Total Annual Costs Burden: $0.

Description: The Department of Labor, through the Occupational Safety and Health Administration (OSHA), is responsible for investigating alleged violations of whistleblower provisions contained in certain Federal laws that prohibit retaliatory action by employers against employees who report unsafe or unlawful practices. These whistleblower protections prohibit an employer from discharging or otherwise retaliating against an employee with respect to compensation, terms, conditions or privileges of employment because the employee engages in any of the activities specified in the particular statute as a protected activity. This information collection covers the whistleblower protection provisions under the following statutes: (1) Safe Water Drinking Act, 42 U.S.C. 300j-9(I); (2) Water Pollution Control Act, 33 U.S.C. 1367; (3) Toxic Substances Control Act, 15 U.S.C. 2622; (4) Solid Waste Disposal Act, 42 U.S.C. 7001; (5) Clean Air Act, 42 U.S.C. 7622; (6) Energy Reorganization Act of 1974, 42 U.S.C. 5851, (7) Comprehensive Environmental Response, Compensation and Liability Act of 1980, 42 U.S.C. 9610, (8) Wendell H. Ford Aviation Investment and Reform Act for the 21st Century, 49 U.S.C. 42121 (AIR 21), (9) Sarbanes-Oxley Act, 18 U.S.C. 1514A, and (10) Pipeline Safety Improvement Act, 49 U.S.C. 60129.

Regulations at 29 CFR part 24, 29 CFR part 1979, 29 CFR part 1980, and 29 CFR part 1981 set forth the procedures for the handling of retaliation complaints under these Federal employee protection statutes. Employees who believe that they have been discriminated against by employers, in violation of whistleblower provisions in certain law, for reporting unlawful practices that adversely affect occupational safety and health, and the environment, are required to place their allegations in writing so they may, where appropriate, be investigated by the Department of Labor.

Darrin A. King,
Acting Departmental Clearance Officer.

[FR Doc. E7-22896 Filed 11-23-07; 8:45 am]

BILLING CODE 4510-26-P